DEPARTMENT OF THE TREASURY

Internal Revenue Service

26 CFR Part 1

[REG-127391-07]

RIN 1545-BH02

Guidance Under Section 664 Regarding the Effect of Unrelated Business Taxable Income on Charitable Remainder Trusts; Correction

AGENCY: Internal Revenue Service (IRS), Treasury.

ACTION: Correction to a notice of proposed rulemaking.

SUMMARY: This document contains corrections to a notice of proposed rulemaking (REG-127391-07) that was published in the Federal Register on Friday, March 7, 2008 (73 FR 12313) providing guidance under Internal Revenue Code section 664 on the tax effect of unrelated business taxable income (UBTI) on charitable remainder trusts.

FOR FURTHER INFORMATION CONTACT: Cynthia Morton at (202) 622-3060 (not a toll-free number).

SUPPLEMENTARY INFORMATION:

Background

The correction notice that is the subject of this document is under section 664 of the Internal Revenue Code.

Need for Correction

As published, a notice of proposed rulemaking (REG-127391-07) contains errors that may prove to be misleading and are in need of clarification.

Correction of Publication

Accordingly, the publication of a notice of proposed rulemaking (REG-127391-07), which was the subject of FR Doc. E8-4576, is corrected as follows:

1. On page 12314, column 3, in the preamble, under the paragraph heading “Comments and Public Hearing”, line 2 of the second paragraph, the language “for April 11, 2007, at 10 a.m., in the IRS” is corrected to read “for April 11, 2008, at 10 a.m., in the IRS”.

2. On page 12314, column 3, in the preamble, under the paragraph heading “Comments and Public Hearing”, line 8 of the third paragraph, the language “and eight (8) copies) by March 28, 2007.” is corrected to read “and eight (8) copies) by March 28, 2008.”.

LaNita Van Dyke,
Chief, Publications and Regulations Branch, Legal Processing Division, Associate Chief Counsel (Procedure and Administration).

[FR Doc. E8-5336 Filed 3-17-08; 8:45 am]

BILLING CODE 4830-01-P